DEPARTMENT OF ENERGY

Federal Energy Regulatory Commission

Combined Notice of Filings #2

Take notice that the Commission received the following electric rate filings:

Docket Numbers: ER15-1777-001.

Applicants: Southwest Power Pool, Inc.

Description: Compliance filing: Heartland Consumers Power District Formula Rate Compliance Filing to be effective 10/1/2015.

Filed Date: 11/1/16.

Accession Number: 20161101-5128.

Comments Due: 5 p.m. ET 11/22/16.

Docket Numbers: ER15-2131-003; ER12-2037-008; ER12-2314-006; ER15-2129-002; ER15-2130-003.

Applicants: Milo Wind Project, LLC, Roosevelt Wind Project, LLC, Slate Creek Wind Project, LLC, Spearville 3, LLC, Spinning Spur Wind LLC.

Description: Notice of Non-Material Change in Status of the EDF-RE MBR Affilliates in SPP BAA.

Filed Date: 10/31/16.

Accession Number: 20161031-5301.

Comments Due: 5 p.m. ET 11/21/16.

Docket Numbers: ER17-257-000.

Applicants: NorthWestern Corporation.

Description: § 205(d) Rate Filing: SA 767 2nd Rev—NITSA with Basin Electric Power Cooperative to be effective 1/1/2017.

Filed Date: 11/1/16.

Accession Number: 20161101-5000.

Comments Due: 5 p.m. ET 11/22/16.

Docket Numbers: ER17-258-000.

Applicants: NorthWestern Corporation.

Description: Tariff Cancellation: Notice of Cancellation: SA 312 8th Rev, NITSA with Southern Montana to be effective 1/1/2017.

Filed Date: 11/1/16.

Accession Number: 20161101-5001.

Comments Due: 5 p.m. ET 11/22/16.

Docket Numbers: ER17-259-000.

Applicants: Darby Power, LLC.

Description: § 205(d) Rate Filing: Darby Power, LLC Reactive Service Filing to be effective 12/31/9998.

Filed Date: 11/1/16.

Accession Number: 20161101-5046.

Comments Due: 5 p.m. ET 11/22/16.

Docket Numbers: ER17-260-000.

Applicants: Gavin Power, LLC.

Description: § 205(d) Rate Filing: Gavin Power, LLC Reactive Service Filing to be effective 12/31/9998.

Filed Date: 11/1/16.

Accession Number: 20161101-5048.

Comments Due: 5 p.m. ET 11/22/16.

Docket Numbers: ER17-261-000.

Applicants: Lawrenceburg Power, LLC.

Description: § 205(d) Rate Filing: Lawrenceburg Power, LLC Reactive Service Filing to be effective 12/31/9998.

Filed Date: 11/1/16.

Accession Number: 20161101-5049.

Comments Due: 5 p.m. ET 11/22/16.

Docket Numbers: ER17-262-000.

Applicants: Waterford Power, LLC.

Description: § 205(d) Rate Filing: Waterford Power, LLC Reactive Service Filing to be effective 12/31/9998.

Filed Date: 11/1/16.

Accession Number: 20161101-5050.

Comments Due: 5 p.m. ET 11/22/16.

Docket Numbers: ER17-263-000.

Applicants: PJM Interconnection, L.L.C.

Description: § 205(d) Rate Filing: Queue Position NQ139, Original Service Agreement No. 4573 to be effective 10/26/2016.

Filed Date: 11/1/16.

Accession Number: 20161101-5082.

Comments Due: 5 p.m. ET 11/22/16.

Docket Numbers: ER17-264-000.

Applicants: Southwest Power Pool, Inc.

Description: § 205(d) Rate Filing: AEP Formula Rate Revisions to be effective 7/1/2017.

Filed Date: 11/1/16.

Accession Number: 20161101-5083.

Comments Due: 5 p.m. ET 11/22/16.

Docket Numbers: ER17-265-000.

Applicants: Midcontinent Independent System Operator, Inc.

Description: § 205(d) Rate Filing: 2017-11-01_ETEC Tex-La RTO Adder Request to be effective 1/1/2017.

Filed Date: 11/1/16.

Accession Number: 20161101-5087.

Comments Due: 5 p.m. ET 11/22/16.

Docket Numbers: ER17-266-000.

Applicants: PJM Interconnection, L.L.C.

Description: § 205(d) Rate Filing: Amendment to WMPA SA No. 3318, Queue No. X3-075 re: Assignment to Marina Energy to be effective 6/4/2014.

Filed Date: 11/1/16.

Accession Number: 20161101-5088.

Comments Due: 5 p.m. ET 11/22/16.

Docket Numbers: ER17-267-000.

Applicants: Southwestern Public Service Company.

Description: § 205(d) Rate Filing: Tri-County Formula Rate to be effective 1/1/2017.

Filed Date: 11/1/16.

Accession Number: 20161101-5097.

Comments Due: 5 p.m. ET 11/22/16.

Docket Numbers: ER17-268-000.

Applicants: Mid-Atlantic Interstate Transmission, LLC.

Description: Baseline eTariff Filing: Modifications to Purchase and Sale Agreement with Niagara Mohawk to be effective 11/1/2016.

Filed Date: 11/1/16.

Accession Number: 20161101-5126.

Comments Due: 5 p.m. ET 11/22/16.

Docket Numbers: ER17-269-000.

Applicants: Pennsylvania Electric Company.

Description: Baseline eTariff Filing: Penelec Modifications to Purchase and Sale Agreement with Niagara Mohawk to be effective 11/1/2016.

Filed Date: 11/1/16.

Accession Number: 20161101-5127.

Comments Due: 5 p.m. ET 11/22/16.

Docket Numbers: ER17-270-000.

Applicants: Jersey Central Power & Light.

Description: Baseline eTariff Filing: JCP&L Modifications to Purchase and Sale Agreement with Niagara Mohawk to be effective 11/1/2016.

Filed Date: 11/1/16.

Accession Number: 20161101-5129.

Comments Due: 5 p.m. ET 11/22/16.

Docket Numbers: ER17-271-000.

Applicants: DATC Path 15, LLC.

Description: § 205(d) Rate Filing: Revised Appendix I 2017 to be effective 1/1/2017.

Filed Date: 11/1/16.

Accession Number: 20161101-5130.

Comments Due: 5 p.m. ET 11/22/16.

Docket Numbers: ER17-272-000.

Applicants: Startrans IO, LLC.

Description: § 205(d) Rate Filing: TRBAA 2017 Update to be effective 1/1/2017.

Filed Date: 11/1/16.

Accession Number: 20161101-5134.

Comments Due: 5 p.m. ET 11/22/16.

Docket Numbers: ER17-273-000.

Applicants: Midcontinent Independent System Operator, Inc., Entergy Services, Inc.

Description: § 205(d) Rate Filing: 2016-11-01_Filing to update Entergy Schedule 41 to be effective 1/1/2017.

Filed Date: 11/1/16.

Accession Number: 20161101-5160.

Comments Due: 5 p.m. ET 11/22/16.

Docket Numbers: ER17-274-000.

Applicants: GenOn Energy Management, LLC.

Description: § 205(d) Rate Filing: Revised Tariff to be effective 12/1/2016.

Filed Date: 11/1/16.

Accession Number: 20161101-5162.

Comments Due: 5 p.m. ET 11/22/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2016.
Nathaniel J. Davis, Sr.,
Deputy Secretary.

[FR Doc. 2016-26842 Filed 11-4-16; 8:45 am]

BILLING CODE 6717-01-P